DEPARTMENT OF THE INTERIOR

National Park Service

Notice of Intent To Repatriate Cultural Items: U.S. Department of Agriculture, Forest Service, Coconino National Forest, Flagstaff, AZ, and Arizona State Museum, University of Arizona, Tucson, AZ

AGENCY: National Park Service, Interior.

ACTION: Notice.

Notice is here given in accordance with the Native American Graves Protection and Repatriation Act (NAGPRA), 25 U.S.C. 3005, of the intent to repatriate cultural items in the control of the U.S. Department of Agriculture, Forest Service, Coconino National Forest, Flagstaff, AZ, and in the possession of the Arizona State Museum, University of Arizona, Tucson, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

The 57 cultural items are 2 ceramic vessels, 4 non-ceramic vessels, 10 arrow shafts, 4 arrow foreshafts, 12 arrows, 3 quivers, 2 bows, 9 items of clothing, 3 textile fragments, 3 pieces of yucca fiber cord, 1 prayer stick, 2 bags, 1 bundle of human hair and 1 botanical sample. In 1933, the 57 cultural items were removed without an Antiquities Act permit from Hidden House Ruin on National Forest System land, administered by Coconino National Forest, by Clarence R. King of the United Verde Copper Company. In February 1934, the cultural items came into the possession of the Arizona State Museum and have remained at the museum since that time.

According to museum records, the objects were found below the surface with human remains. Both were removed, however, the human remains were immediately reburied. Therefore, the objects are considered to be unassociated funerary objects.

Based on material culture, architecture and site organization, the small cliff dwelling at Hidden House Ruin has been identified as a Southern Sinaguan site in Sycamore Canyon in north-central Arizona and was occupied between A.D. 1100 and A.D. 1300. Continuities of oral traditions, ethnographic materials, technology, and architecture indicate the affiliation of Southern Sinaguan sites in Sycamore Canyon with the Hopi Tribe of Arizona.

Officials of the U.S. Department of Agriculture, Forest Service, Coconino National Forest, have determined that, pursuant to 25 U.S.C. 3001(3)(B), the 57 cultural items described above are reasonably believed to have been placed with or near individual human remains at the time of death or later as part of the death rite or ceremony and are believed, by a preponderance of the evidence, to have been removed from a specific burial site of a Native American individual. Officials of the U.S. Department of Agriculture, Forest Service, Coconino National Forest, have also determined that, pursuant to 25 U.S.C. 3001(2), there is a relationship of shared group identity that can be reasonably traced between the unassociated funerary objects and the Hopi Tribe of Arizona.

Representatives of any other Indian tribe that believes itself to be culturally affiliated with the unassociated funerary objects should contact Dr. Frank E. Wozniak, NAGPRA Coordinator, Southwestern Region, USDA Forest Service, 333 Broadway Blvd., SE., Albuquerque, NM 87102, telephone (505) 842-3238, before August 30, 2010. Repatriation of the unassociated funerary objects to the Hopi Tribe of Arizona may proceed after that date if no additional claimants come forward.

The U.S. Department of Agriculture, Forest Service, Coconino National Forest, is responsible for notifying the Hopi Tribe of Arizona; Yavapai-Prescott Tribe of the Yavapai Reservation, Arizona; and the Zuni Tribe of the Zuni Reservation, New Mexico, that this notice has been published.

Dated: June 22, 2010.
Sherry Hutt,
Manager, National NAGPRA Program.

[FR Doc. 2010-18435 Filed 7-28-10; 8:45 am]

BILLING CODE 4312-50-P